DEPARTMENT OF THE INTERIOR

U.S. Fish and Wildlife Service

National Park Service

[NPS-WASO-ANRSS-30345; PPWONRADE2, PMP00EI05.YP0000]

Notice of Termination of the Environmental Impact Statement for a Grizzly Bear Restoration Plan, North Cascades Ecosystem, Washington

AGENCY: Fish and Wildlife Service and National Park Service, Interior.

ACTION: Notice of Termination.

SUMMARY: The U.S. Fish and Wildlife Service (FWS) and National Park Service (NPS) have terminated the preparation of an Environmental Impact Statement (EIS) for a proposal to develop and implement a Grizzly Bear Restoration Plan for the North Cascades ecosystem, a portion of the species' historical range. The Agencies have discontinued the proposal.

DATES: This Notice takes effect on the date of its publication in the Federal Register.

FOR FURTHER INFORMATION CONTACT: Denise Shultz, Public Information Officer, North Cascades National Park Service Complex at 360-392-7269, or Ann Froschauer, Public Affairs Supervisor, FWS Washington Fish and Wildlife Office at 360-753- 4370.

SUPPLEMENTARY INFORMATION: A Notice of Intent to prepare an EIS (NOI) was published in the Federal Register on February 19, 2015 (80 FR 8894), initiating a public scoping period. The NOI detailed the proposal and identified the FWS and NPS as joint lead Agencies for preparation of the EIS. The FWS and NPS released a Draft EIS for public review and comment in January 2017 (82 FR 4336; 82 FR 4416). The Agencies held a number of public meetings during the public review and comment period and participated in outreach activities with interested parties. The FWS and NPS provided an additional public review and comment period on the Draft EIS from July to October, 2019 (84 FR 36099) and held one public meeting during that time. The FWS and NPS have decided to discontinue the proposal to develop and implement a Grizzly Bear Restoration Plan for the North Cascades Ecosystem. Because the Agencies are no longer proposing to take an action, the EIS process has been terminated.

George Wallace,
Assistant Secretary for Fish and Wildlife and Parks.

[FR Doc. 2020-14894 Filed 7-9-20; 8:45 am]

BILLING CODE 4312-52-P